DEPARTMENT OF THE INTERIOR

Fish and Wildlife Service

[FWS-R4-ES-2025-N035; FXES11140400000-256-FF04E00000]

Endangered Species; Recovery Permit Applications

AGENCY: Fish and Wildlife Service, Interior.

ACTION: Notice of receipt of permit applications; request for comments.

SUMMARY: We, the U.S. Fish and Wildlife Service, have received applications for permits to conduct scientific research to promote conservation or other activities intended to enhance the propagation or survival of endangered and threatened species under the Endangered Species Act. We invite the public and local, State, Tribal, and Federal agencies to comment on these applications. Before issuing any of the requested permits, we will take into consideration any information that we receive during the public comment period.

DATES: We must receive written data or comments on the applications by February 19, 2026.

ADDRESSES:

Reviewing Documents: Submit requests for copies of applications and other information submitted with the applications to permitsr4es@fws.gov (see FOR FURTHER INFORMATION CONTACT). All requests and comments should specify the applicant's name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. Mail: U.S. Fish and Wildlife Service Regional Office, Ecological Services, 1875 Century Boulevard, Atlanta, GA 30345 (Attn: Recovery Permit Coordinator).

FOR FURTHER INFORMATION CONTACT: Kaye London via telephone at 404-679-7097 or via email at permitsr4es@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a), and the Freedom of Information Act (5 U.S.C. 552).

Background

With some exceptions, the ESA prohibits take of listed species unless a Federal permit is issued that authorizes such take. The definition of “take” in the ESA includes hunting, shooting, harming, wounding, or killing, and also such activities as pursuing, harassing, trapping, capturing, or collecting, or attempting to engage in any such conduct.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES011542-12 | Conservation Fisheries; Knoxville, TN | Carolina madtom (Noturus furiosus) | North Carolina | Surveys, scientific research, and captive propagation | Capture, handle, identify, and release | Renewal with amendment
ES06338C-3 | David Foltz; Weirton, WV | Dwarf wedgemussel (Alasmidonta heterodon), eastern hellbender (Cryptobranchus alleganiensis alleganiensis), Nashville crayfish (Orconectes shoupi), and salamander mussel (Simpsonaias ambigua) | Connecticut, Delaware, District of Columbia, Georgia, Maryland, Massachusetts, Montana, New Hampshire, New Jersey, Pennsylvania, South Carolina, and Vermont | Surveys | Capture, handle, identify, release, and salvage relic shells | Amendment
ES28025A-4 | The Orianne Society; Tiger, GA | Reticulated flatwoods salamander (Ambystoma bishopi) | Georgia | Surveys and scientific research | Capture, handle, identify, collect biological samples, and release | Renewal and amendment
ES069754-8 | Gerald Dinkins; Knoxville, TN | Fishes: Barrens topminnow (Fundulus julisia), Carolina madtom (Noturus furiosus), grotto sculpin (Cottus specus), Topeka shiner (Notropis Topeka); Mussels: Canoe Creek clubshell (Pleurobema athearni), false spike (Fusconaia mitchelli), Tennessee pigtoe (Pleuronaia barnesiana), Tennessee clubshell (Pleurobema oviforme); Snails: Iowa Pleistocene snail (Discus macclintocki), magnificent rams-horn (Planorbella magnifica), and Virginia fringed mountain snail (Polygyriscus virginianus) | Alabama, Arkansas, Florida, Georgia, Illinois, Indiana, Iowa, Kansas, Kentucky, Louisiana, Maryland, Michigan, Minnesota, Mississippi, Missouri, North Carolina, Ohio, Pennsylvania, South Carolina, Tennessee, Texas, Virginia, West Virginia, and Wisconsin | Surveys and scientific research | Capture, handle, identify, collect biological samples, release, and salvage relic shells | Amendment
ES61239D-2 | Smithsonian National Zoo & Conservation Biology Institute; Front Royal, VA | Red wolf (Canis rufus) | Nationwide SAFE program locations | Scientific research and genomic banking | Collect biological samples | Renewal
ES59340D-1 | Ashley Long; Baton Rouge, LA | Northern long-eared bat (Myotis septentrionalis) | Louisiana | Scientific research | Capture, handle, identify, and release | Renewal
ES65875D | William Pruitt; Athens, GA | Amber darter (Percina antesella), Conasauga logperch (Percina jenkinsi), Etowah darter (Etheostoma etowahae), fat threeridge (Amblema neislerii), Gulf moccasinshell (Medionidus penicillatus), oval pigtoe (Pleurobema pyriforme), and shinyrayed pocketbook (Hamiota subangulata) | Alabama, Florida, Georgia, and Tennessee | Surveys | Capture, handle, identify, release, and salvage relic shells | Renewal
PER21814598-0 | Molly Simonis; Auburn, AL | Gray bat (Myotis grisescens), Indiana bat (Myotis sodalis), northern long-eared bat (Myotis septentrionalis), and tricolored bat (Perimyotis subflavus) | Alabama | Scientific research | Capture, handle, identify, collect biological samples, band, tag, and release | New
PER22287824-0 | Atlas Environmental, Inc.; Charlotte, NC | Mammals: gray bat (Myotis grisescens), Indiana bat (Myotis sodalist), northern long-eared bat (Myotis septentrionalis), tricolored bat (Perimyotis subflavus), Virginia big-eared bat (Corynorhinus townsendii virginianus); Mussels: Altamaha spinymussel (Elliptio spinosa), Appalachian elktoe (Alasmidonta raveneliana), Carolina heelsplitter (Lasmigona decorata), dwarf wedgemussel (Alasmidonta heterodon), James spinymussel (Parvaspina collina), southern elktoe (Alasmidonta triangulata), Tar River spinymussel (Parvaspina steinstansana); Amphibians: eastern hellbender (Cryptobranchus alleganiensis alleganiensis) and reticulated flatwoods salamander (Ambystoma bishopi) | Georgia, North Carolina, and South Carolina | Surveys | Capture, handle, identify, collect biological samples, band, tag, salvage relic shells, and release | New
PER22577965-0 | Matthew Johnson; Franklin, TN | 35 freshwater mussel species | Throughout the range of the species' | Surveys | Capture, handle, identify, collect biological samples, release, and salvage relic shells | New

Public Availability of Comments

All written comments that are received during the comment period become part of the administrative record associated with this notice. If including your address, phone number, email address, or other personal identifying information in your comment, be aware that the comment, including personal identifying information, may be available to the public. While you may request to withhold personal identifying information from public review, we cannot guarantee privacy of the information. All comments will be made available for public disclosure in their entirety from organizations or businesses, including individuals identifying themselves as representatives or officials of such organizations or businesses.

Next Steps

After the comment period closes, we will make a decision regarding the status of permit issuance for each application. If we issue permits to any of the applicants listed above in this notice, we will publish a subsequent notice in the Federal Register. The notice announcing the permit issuance may be located by searching https://www.regulations.gov for the permit application number listed in the table above.

An interested party opposed to a recovery permit's issuance may object by following the requirements in 50 CFR 17.22(d). The Service will notify the interested party of the Service's decision for the permit application under that section.

Authority

We, the U.S. Fish and Wildlife Service, publish this notice under section 10(c) of the Endangered Species Act of 1973, as amended (16 U.S.C. 1531 et seq.).

Christopher Cooley,
Deputy Assistant Regional Director, Ecological Services, Southeast Region.

[FR Doc. 2026-00894 Filed 1-16-26; 8:45 am]

BILLING CODE 4333-15-P